DEPARTMENT OF DEFENSE

Office of the Secretary

[ No. DOD-2006-OS-0060

Submission for OMB Review; Comment Request

ACTION: Notice.

The Department of Defense has submitted to OMB for clearance, the following proposal for collection of information under the provisions of the Paperwork Reduction Act (44 U.S.C. Chapter 35).

DATES: Consideration will be given to all comments received by September 25, 2006.

Title, Associated Form and OMB Number: Physician Certificate for Child Annuitant; DD Form 2828; OMB Control Number 0730-0011.

Type of Request: Extension.

Number of Respondents: 120.

Responses Per Respondent: 1.

Annual Responses: 120.

Average Burden Per Response: 2 hours.

Annual Burden Hours: 240.

Needs and Uses: This form is required and must be on file to support an incapacitation occurring prior to Page 18. The form provides the authority for the Directorate of Annuity Pay Defense Finance and Accounting Service—Cleveland (DFAS-CL/PD) to establish and pay, a Retired Serviceman's Family Protection Plan (RSFPP) or Survivor Benefit Plan (SBP) annuity to the incapacitated individual.

Affected Public: Individuals or households.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503. You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www,regulations.gov as they are received without change, including any personal identifiers or contact information.

DOD Clearance Officer: Ms. Patricia Toppngs.

Written requests for copies of the information collection proposal should be sent to Ms. Toppings, at WHS/ESD/Information Management Division, 1777 North Kent Street, RPN, Suite 11000, Arlington, VA 22209-2133.

Dated: August 18, 2006.
Patricia L. Toppings,
Alternate OSD Federal Register Liaison Officer, Department of Defense.

[FR Doc. 06-7151 Filed 8-24-06; 8:45am]

BILLING CODE 5001-06-M